DEPARTMENT OF HEALTH AND HUMAN SERVICES

National Institutes of Health

Prospective Grant of Exclusive License: Gossypol, Gossypol Acetic Acid and Derivatives Thereof and the Use Thereof for Treating Cancer

AGENCY: National Institutes of Health, Public Health Service, DHHS.

ACTION: Notice.

SUMMARY: This is notice, in accordance with 15 U.S.C. 209(c)(1) and 37 CFR 404.7(a)(1)(i), that the National Institutes of Health (NIH), Department of Health and Human Services, is contemplating the grant of an exclusive world-wide license to practice the inventions embodied in any of U.S. patents 5,385,936 (01/31/1995) and 6,114,397 (09/05/2000) to Accu Therapeutics, Inc. of Rockville, Maryland. The prospective exclusive license may be limited to the development of compositions and methods utilizing gossypol, gossypol acetic acid and derivatives thereof in the treatment of human cancer. This Notice supercedes any prior Notices published in the Federal Register regarding this technology, including 61 FR 30915, Jun. 18, 1996 and 61 FR 67842, Dec. 24, 1996.

DATES: Only written comments and/or application for a license which are received by the NIH Office of Technology Transfer on or before May 3, 2002, will be considered.

ADDRESSES: Inquiries, comment and other materials relating to the contemplated license should be directed to Susan S. Rucker, J.D., Licensing and Patent Specialist, Office of Technology Transfer, National Institutes of Health, 6011 Executive Boulevard, Suite 325, Rockville, Maryland 20852-3804; telephone: 301/496-7056 ext 245; fax: 301/402-0220.

SUPPLEMENTARY INFORMATION: The patents describe and claim methods utilizing gossypol, gossypol acetic acid and derivatives thereof for the treatment of cancer. Gossypol or its derivatives may be provided alone, in combination with each other, and/or in combination with other therapeutic agents. Particular cancers exemplified include adrenal, ovarian, thyroid, testicular, pituitary, prostate and breast cancers.

The prospective exclusive license will be royalty bearing and will comply with the terms and conditions of 35 U.S.C. 209 and 37 CFR 404.7. This prospective exclusive license may be granted unless within sixty (60) days from the date of this published notice, NIH receives written evidence and argument that establishes that the grant of the license would not be consistent with the requirements of 35 U.S.C. 209 and 37 CFR 404.7.

Applications for a license (i.e., a completed Application for License to Public Health Service Inventions) in the indicated exclusive field of use filed in response to this notice will be treated as objections to the grant of the contemplated license. Comments and objections will not be made available for public inspection and, to the extent permitted by law, will not be subject to disclosure under the Freedom of Information Act 35 U.S.C. 552.

Dated: February 25, 2002.
Jack Spiegel,
Director, Division of Technology Development and Transfer, Office of Technology Transfer.

[FR Doc. 02-5027 Filed 3-1-02; 8:45 am]

BILLING CODE 4140-01-P